DEPARTMENT OF COMMERCE

National Oceanic and Atmospheric Administration

RIN 0648-XE082

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC) to review stock projections and consider fishing level recommendations for blueline tilefish.

DATES: The SSC meeting will be held via webinar on Wednesday, September 9, 2015, from 1 p.m. to 3 p.m.

ADDRESSES:

Meeting address: The meetings will be held via webinar. The webinar is open to members of the public. Those interested in participating should contact John Carmichael at the Council office (see FOR FURTHER INFORMATION CONTACT) to request an invitation providing webinar access information. Please request webinar invitations at least 24 hours in advance of the webinar.

Council address: South Atlantic Fishery Management Council, 4055 Faber Place Drive, Suite 201, N. Charleston, SC 29405.

FOR FURTHER INFORMATION CONTACT: John Carmichael; 4055 Faber Place Drive, Suite 201, North Charleston, SC 29405; phone: (843) 571-4366 or toll free: (866) SAFMC-10; fax: (843) 769-4520; email: john.carmichael@safmc.net

SUPPLEMENTARY INFORMATION: This meeting is held to review yield and stock status projections for blueline tilefish, and consider fishing level recommendations. The SSC reviewed the SEDAR 32 blueline tilefish stock assessment in October 2013 and revised projections in April 2014 and June 2015. The SSC requested additional projections in June 2015; these will be reviewed at this meeting.

Items to be addressed during this meeting:

1. Blueline Tilefish Stock Projections

2. Blueline Tilefish Fishing Level Recommendations

Special Accommodations

The meeting is physically accessible to people with disabilities. Requests for sign language interpretation or other auxiliary aids should be directed to the Council office (see ADDRESSES) at least 10 business days prior to the meeting.

Note: The times and sequence specified in this agenda are subject to change.

Authority: 16 U.S.C. 1801 et seq.

Dated: August 13, 2015.
Tracey L. Thompson,
Acting Deputy Director, Office of Sustainable Fisheries, National Marine Fisheries Service.

[FR Doc. 2015-20337 Filed 8-17-15; 8:45 am]

BILLING CODE 3510-22-P